DEPARTMENT OF THE TREASURY

Internal Revenue Service

26 CFR Part 1

[REG-103580-02]

RIN 1545-BA53

Noncompensatory Partnership Options

AGENCY: Internal Revenue Service (IRS), Treasury.

ACTION: Correction to notice of proposed rulemaking.

SUMMARY: This document contains a correction to a notice of proposed rulemaking that was published in the Federal Register on Wednesday, January 22, 2003 (68 FR 2930) relating to the tax treatment of noncompensatory options and convertible instruments issued by a partnership.

FOR FURTHER INFORMATION CONTACT: Audrey W. Ellis at (202) 622-3060 (not a toll-free number).

SUPPLEMENTARY INFORMATION:

Background

The notice of proposed rulemaking that is the subject of this correction is under sections 704(b) and 761 of the Internal Revenue Code.

Need for Correction

As published, the notice of proposed rulemaking contains errors that may prove to be misleading and are in need of clarification.

Correction of Publication

Accordingly, the publication of the notice of proposed rulemaking (REG-103580-02), that was the subject of FR Doc. 03-872, is corrected as follows:

§ 1.704-1 [Corrected]

1. On page 2934, paragraph (b)(0), the third entry in the table is corrected to read as follows:

* * * * *
Adjustments for noncompensatory options | 1.704-1(b)(2)(iv)(h)(2 )
* * * * *

§ 1.761-3 [Corrected]

2. On page 2941, column 1,§ 1.761-3(d)(2), Example 3., paragraph (ii), line 10, the language, “warrant comprise an investment unit with” is corrected to read “warrant comprise an investment unit within”.

Cynthia E. Grigsby,
Chief, Regulations Unit, Associate Chief Counsel (Procedure and Administration).

[FR Doc. 03-7525 Filed 3-27-03; 8:45 am]

BILLING CODE 4830-01-P